FEDERAL HOUSING FINANCE BOARD

Sunshine Act Meeting Notice; Announcing a Partially Open Meeting of the Board of Directors

Time and Date: The open meeting of the Board of Directors is scheduled to begin at 10 am on Tuesday, January 15, 2008. The closed portion of the meeting will follow immediately the open portion of the meeting.

Place: Board Room, First Floor, Federal Housing Finance Board, 1625 Eye Street, NW., Washington, DC 20006.

Status: The first portion of the meeting will be open to the public. The final portion of the meeting will be closed to the public.

Matter To Be Considered at the Open Portion: Federal Home Loan Bank of San Francisco—Waiver of Certain AHP Regulations to Permit Refinancing/Modification of Subprime Mortgage Loans.

Matter To Be Considered at the Closed Portion: Periodic Update of Examination Program Development and Supervisory Findings.

Contact Person For More Information: Shelia Willis, Paralegal Specialist, Office of General Counsel, at 202-408-2876 or williss@fhfb.gov.

Dated: January 8, 2008.
By the Federal Housing Finance Board.
Neil R. Crowley,
Acting General Counsel.

[FR Doc. 08-85 Filed 1-8-08; 3:59 pm]

BILLING CODE 6725-01-P